DEPARTMENT OF JUSTICE

Office of Community Policing Services; Agency Information Collection Activities; Proposed Collection; Comments Requested

action: 30-Day Notice of Information Collection Under Review; COPS Universal Hiring Program (UHP) and COPS in Schools (CIS) and Homeland Security Overtime Program Grant Applications.

The Department of Justice (DOJ), Office of Community Policing Services (COPS) has submitted the following information collection request to the Office of Management and Budget (OMB) for review and approval in accordance with the Paperwork Reduction Act of 1995. The proposed information collection is published to obtain comments from the public and affected agencies. This proposed information collection was previously published in the Federal Register Volume 67, Number 219, page 68885 on November 13, 2002, allowing for a 60 day comment period.

The purpose of this notice is to allow an additional 30 days for public comment until August 29, 2003. This process is conducted in accordance with 5 CFR 1320.10.

Written comments and/or suggestions regarding the item(s) contained in each notice, especially regarding the estimated public burden and associated response time, should be directed to the Office of Management and Budget, Office of Information and Regulatory Affairs, Attention: Department of Justice Desk Officer, Washington, DC 20530.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Revision to a currently approved collection.

(2) The title of the form/collection: Universal Hiring Program and COPS in Schools and Homeland Security Overtime Program Grant Applications.

(3) The agency form number, if any, and the applicable component of the Department sponsoring the collection: Form number: none. Sponsoring component: Office of Community Oriented Policing Services, United States Department of Justice.

(4) Affected public who will be asked or required to respond, as well as a brief abstract: Primary: State, local and tribal governments. Other: none. The COPS Office requests OMB approval of a revision to a currently approved collection. The Universal Hiring Program (UHP), COPS in Schools (CIS) program, and Homeland Security Overtime Program (HSOP) all promote the practice of community policing and use essentially the same application, with only minor differences in the types of questions asked due to the different focuses of the programs. The UHP and CIS programs allow law enforcement agencies to supplement their current law enforcement forces or establish a new “start-up” municipal law enforcement agency. CIS grantees are required to place any officer positions awarded in the local schools for at least 75% of their normal duty shift. HSOP permits applicants to supplement their current overtime budget for homeland security training sessions and other law enforcement activities that are designed to help prevent acts of terrorism.

(5) An estimate of the total number of respondents and the amount of time estimated for an average respondent to respond/reply: An estimated 6,300 respondents will submit applications for either the UHP, CIS, or HSOP program. COPS estimates it will take respondents approximately 5 hours to complete their applications.

(6) An estimate of the total public burden (in hours) associated with the collection: The total public burden is estimated at 31,500 annual burden hours for this combined application kit.

FOR FURTHER INFORMATION CONTACT: Brenda E. Dyer, Deputy Clearance Officer, United States Department of Justice, Justice Management Division, Policy and Planning Staff, Patrick Henry Building, Suite 1600, 601 D Street NW., Washington, DC 20530.

Dated: July 24, 2003.
Brenda E. Dyer,
Deputy Clearance Officer, Department of Justice.

[FR Doc. 03-19293 Filed 7-29-03; 8:45 am]

BILLING CODE 4410-AT-P